DEPARTMENT OF AGRICULTURE

Grain Inspection, Packers and Stockyards Administration

[01-01-S1]

Designation for the Cairo (IL), Louisiana, and North Carolina Areas

AGENCY: Grain Inspection, Packers and Stockyards Administration (GIPSA).

ACTION: Notice.

SUMMARY: GIPSA announces designation of the following organizations to provide official services under the United States Grain Standards Act, as amended (Act): Cairo Grain Inspection Agency, Inc. (Cairo); Louisiana Department of Agriculture and Forestry (Louisiana); and North Carolina Department of Agriculture (North Carolina).

EFFECTIVE DATE: October 1, 2001.

ADDRESSES: USDA, GIPSA, Janet M. Hart, Chief, Review Branch, Compliance Division, STOP 3604, Room 1647-S, 1400 Independence Avenue, S.W., Washington, DC 20250-3604.

FOR FURTHER INFORMATION CONTACT: Janet M. Hart at 202-720-8525, e-mail janhart@gipsadc.usda.gov.

SUPPLEMENTARY INFORMATION: This action has been reviewed and determined not to be a rule or regulation as defined in Executive Order 12866 and Departmental Regulation 1512-1; therefore, the Executive Order and Departmental Regulation do not apply to this action.

In the March 8, 2001, Federal Register (66 FR 13874), GIPSA asked persons interested in providing official services in the geographic areas assigned to the official agencies named above to submit an application for designation. Applications were due by March 31, 2001.

Cairo, Louisiana, and North Carolina were the sole applicants for designation to provide official services in the entire area currently assigned to them, so GIPSA did not ask for comments on them.

GIPSA evaluated all available information regarding the designation criteria in Section 7(f)(l)(A) of the Act and, according to Section 7(f)(l)(B), determined that Cairo, Louisiana, and North Carolina are able to provide official services in the geographic areas specified in the March 8, 2001, Federal Register, for which they applied.

Interested persons may obtain official services by calling the telephone numbers listed below.

Official agency | Headquarters location and telephone | Designation start—end
Cairo | Cairo, IL; 618-734-0689 | 10/01/2001-09/30/2004
Louisiana | Baton Rouge, LA; 225-922-1341; Additional Service Locations: Jonesville, Oak Grove, Opelousas, and Pineville, LA | 10/01/2001-09/30/2004
North Carolina | Raleigh, NC; 919-733-7576; Additional Service Location: Fayetteville, NC | 10/01/2001-09/30/2004

Authority: Pub. L. 94-582, 90 Stat. 2867, as amended (7 U.S.C. 71 et seq.).

Dated: August 16, 2001.
David R. Shipman,
Acting Administrator, Grain Inspection, Packers and Stockyards Administration.

[FR Doc. 01-21930 Filed 8-31-01; 8:45 am]

BILLING CODE 3410-EN-P